DEPARTMENT OF DEFENSE

Department of the Navy

[Docket ID: USN-2022-HQ-0032]

Proposed Collection; Comment Request

AGENCY: Department of the Navy, Department of Defense (DoD).

ACTION: 60-Day information collection notice.

SUMMARY: In compliance with the Paperwork Reduction Act of 1995, the Department of the Navy announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by January 24, 2023.

ADDRESSES: You may submit comments, identified by docket number and title, by any of the following methods:

Federal eRulemaking Portal: https://www.regulations.gov. Follow the instructions for submitting comments.

Mail: Department of Defense, Office of the Assistant to the Secretary of Defense for Privacy, Civil Liberties, and Transparency, Regulatory Directorate, 4800 Mark Center Drive, Mailbox #24, Suite 08D09, Alexandria, VA 22350-1700.

Instructions: All submissions received must include the agency name, docket number and title for this Federal Register document. The general policy for comments and other submissions from members of the public is to make these submissions available for public viewing on the internet at https://www.regulations.gov as they are received without change, including any personal identifiers or contact information.

FOR FURTHER INFORMATION CONTACT: To request more information on this proposed information collection or to obtain a copy of the proposal and associated collection instruments, please write to the Naval Health Research Center, Bldg. 329, Ryne Rd., San Diego, CA 92152, ATTN: Ms. Suzanne Hurtado, or call 619-553-7806.

SUPPLEMENTARY INFORMATION:

Title; Associated Form; and OMB Number: Formative Research for the Adaptation of a Risky Drinking and Sexual Assault Prevention Program; OMB Control Number 0703-NSAP.

Needs and Uses: This information collection is necessary to collect feedback from military service members and behavioral health program staff on a sexual assault prevention program originally developed for the U.S. Air Force Academy so it can be adapted to be optimally relevant for additional service member and training academy audiences. This formative research is part of a larger collaborative study being conducted by RTI, Naval Health Research Center, and San Diego State University. The objective of the study is to modify and evaluate the effectiveness of a sexual assault prevention program for service members when it is combined with an existing alcohol misuse prevention tool. The formative research for this specific information collection will lay the groundwork for future adaptation of the integrated sexual assault and alcohol misuse prevention training in additional military settings, and is therefore critical to maximizing the effectiveness of the integrated program.

Affected Public: Individuals or households.

Annual Burden Hours: 114.

Number of Respondents: 84.

Responses per Respondent: 1.

Annual Responses: 84.

Average Burden per Response: 81.43 minutes.

Frequency: Once.

The collection effort includes focus groups and a brief survey for young enlisted personnel, as well as in-depth interviews with military leaders and staff members of sexual assault and alcohol misuse prevention programs. The focus group questions solicit perspectives and recommendations for improving sexual assault and alcohol misuse prevention trainings in which the respondents have previously participated, unique environmental factors related to sexual assault or alcohol misuse, relevance and interest level of sample content from the integrated sexual assault and alcohol misuse training program. The brief survey supplements the focus group discussion by asking participants to quantitatively rate the sample material from the program shown in the focus group and provide demographic information that will be used to describe the sample. All focus group participants will be asked to complete the brief survey during the focus group session. The in-depth interviews query leaders and program staff perceptions of existing sexual assault and alcohol misuse prevention trainings, recommendations for improving existing programs, unique environmental factors related to sexual assault or alcohol misuse, and organizational perspectives on program implementation.

Dated: November 18, 2022.
Aaron T. Siegel,
Alternate OSD Federal Register Liaison Officer, Department of Defense.

[FR Doc. 2022-25640 Filed 11-23-22; 8:45 am]

BILLING CODE 5001-06FF-P